DEPARTMENT OF ENERGY

Federal Energy Regulatory Commission

[Docket No. EL16-35-000]

Southern Maryland Electric Cooperative, Inc. v. J.P. Morgan Ventures Energy Corporation; Notice of Complaint

Take notice that on February 1, 2016, pursuant to Sections 206 and 306 of the Federal Power Act, 16 U.S.C. 824e, 825e (2012), and Rule 206 of the Federal Energy Regulatory Commission's (Commission) Rules of Practice and Procedure, 18 CFR 385.206 and 385.212 (2015), Southern Maryland Electric Cooperative, Inc. (Complainant) filed a formal complaint against J.P. Morgan Ventures Energy Corporation (Respondent) alleging that Respondent has the right to Capacity Performance (CP) credit under a bilateral capacity purchase agreement that it entered into with Complainant. Complainant believes that Respondent does not intend to transfer CP credit to Complainant, starting with the 2016-2017 Delivery Year that begins June 1, 2016, all as more fully explained in the complaint.

Complainant certifies that copies of the complaint were served on the designated corporate officials for Respondent, as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on February 21, 2016.

Dated: February 2, 2016.
Nathaniel J. Davis, Sr.,
Deputy Secretary.

[FR Doc. 2016-02469 Filed 2-8-16; 8:45 am]

BILLING CODE 6717-01-P